DEPARTMENT OF HEALTH AND HUMAN SERVICES

Administration for Children and Families

Statement of Organization, Functions and Delegation of Authority

Notice is hereby given that I have delegated to the Director, Office of Family Assistance, the following authorities vested in me by the Secretary of Health and Human Services in the memoranda dated August 20, 1991, Delegations of Authority for Social Security Act Programs and September 16, 1997, Delegations of Authority for the Personal Responsibility and Work Opportunity Reconciliation Act of 1996 (Pub. L. 104-193).

(a) Authorities Delegated

1. Authority to administer Income and Eligibility Verification Systems (IEVS), as they pertain to the Administration for Children and Families' programs, under the provisions of Title XI, Section 1137 of the Social Security Act, and as amended now and hereafter.

2. Authority to administer the provisions of Title I, Block Grants for Temporary Assistance for Needy Families (TANF) under Sections 101-103, 106-110, 112, 115, and 116 of the Personal Responsibility and Work Opportunity Reconciliation Act of 1996, 42 U.S.C. 1305 note, 42 U.S.C. 601 et seq., and as amended now and hereafter. In addition, in exercising authority under Section 103, “Section 413, Research, Evaluations, and National Studies,” of the Social Security Act, the Director, Office of Family Assistance, Administration for Children and Families, is expected to consult with the Department of Health and Human Services, Assistant Secretary for Planning and Evaluation.

(b) Limitations

1. This delegation of authority shall be exercised under the Department's existing policies on delegations and regulations.

2. This delegation of authority does not include the authority to submit reports to Congress and shall be exercised under financial and administrative requirements applicable to all Administration for Children and Families' authorities.

3. The approval or disapproval of grant applications requires concurrence of the appropriate Grants Officer. The approval or disapproval of contract proposals and awards is subject to the requirements of the Federal Acquisition Regulations and requires the concurrence of the Contracting Officer.

4. The authority to approve/disapprove under 45 CFR 205.55(d) State applications to use alternate sources of information for income and eligibility (i.e., IEVS) requires consultation with the Office of the Deputy Assistant Secretary for Administration and with the other programs affected by the request.

5. This delegation of authority does not include the authority to issue annual rankings of States' most and least successful work programs and out-of-wedlock birth ratios under Sections 413(d)(1) and 413(e)(1) of the Social Security Act.

6. This delegation of authority does not include the authority under section 409(a)(8) of the Social Security Act to make determinations regarding State compliance or performance and technical noncompliance and to impose penalties and the authority under section 410(a) of the Social Security Act to issue notices to States regarding the imposition of such penalties.

7. This delegation of authority does not include the authority to sign and issue notices of grant awards for family assistance programs.

8. This delegation of authority does not include the authority to appoint Central Office and Regional Office Grant Officers for the administration of family assistance grant programs.

9. This delegation of authority does not include the authority to appoint Action Officials for Audit Resolution.

10. This delegation of authority does not include the authority to conduct research under sections 413(a), (b), and (h) of the Social Security Act or to review proposals and approve State funding for evaluations of Title IV-A programs under section 413(f) of the Social Security Act.

11. This delegation of authority excludes the authority to hold hearings.

12. Any redelegation shall be in writing and prompt notification must be provided to all affected managers, supervisors, and other personnel, and requires the concurrence of the Deputy Assistant Secretary for Administration.

(c) Effect on Existing Delegations

As related to the authorities delegated herein, this delegation of authority supersedes all previous delegations of authority.

(d) Effective Date

This delegation of authority is effective upon the date of signature.

I hereby affirm and ratify any actions taken by the Director, Office of Family Assistance which involved the exercise of the authorities delegated herein prior to the effective date of this delegation.

Dated: February 16, 2007.
Wade F. Horn,
Assistant Secretary for Children and Families.

[FR Doc. E7-3302 Filed 2-26-07; 8:45 am]

BILLING CODE 4184-01-P